ENVIRONMENTAL PROTECTION AGENCY

[FRL-8787-1]

Notice of Proposed Administrative Settlement Pursuant to the Comprehensive Environmental Response, Compensation, and Liability Act

AGENCY: Environmental Protection Agency.

ACTION: Notice; request for public comment.

SUMMARY: In accordance with Section 122 (h) of the Comprehensive Environmental Response, Compensation, and Liability Act, as amended (CERCLA), 42 U.S.C. 9622(i), notice is hereby given of a proposed administrative settlement concerning the Great Lakes Chemical Corporation Emergency Response Superfund Site, El Dorado, Arkansas.

The settlement requires the one (1) settling party to pay a total of $45,000.00 as payment of response costs to the Hazardous Substances Superfund. The total response costs incurred by EPA, as of January 31, 2008, were $63,870.49. The settlement includes a covenant not to sue pursuant to Section 107 of CERCLA, 42, U.S.C. 9607.

For thirty (30) days following the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before April 27, 2009.

ADDRESSES: The proposed settlement and additional background information relating to the settlement are available for public inspection at 1445 Ross Avenue, Dallas, Texas 75202-2733. A copy of the proposed settlement may be obtained from Courtney Kudla, 1445 Ross Avenue, Ste. 1200 (SF-TE), Dallas, Texas 75202-2733 or by calling (214) 665-8008. Comments should reference the Great Lakes Chemical Corporation Emergency Response Superfund Site, El Dorado, Arkansas, and EPA Docket Number 06-02-09, and should be addressed to Courtney Kudla at the address listed above.

FOR FURTHER INFORMATION CONTACT: Anne Foster, 1445 Ross Avenue, Ste. 1200 (RC-S) Dallas, Texas 75202-2733 or call (214) 665-2169.

Dated: March 13, 2009.
Lawrence E. Starfield,
Acting Regional Administrator, Region 6.

[FR Doc. E9-6881 Filed 3-26-09; 8:45 am]

BILLING CODE 6560-50-P